DEPARTMENT OF TRANSPORTATION

Office of the Secretary

Notice of Applications for Certificates of Public Convenience and Necessity and Foreign Air Carrier Permits Filed Under Subpart B (Formerly Subpart Q) During the Week Ending June 9, 2006

The following Applications for Certificates of Public Convenience and Necessity and Foreign Air Carrier permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-969.

Date Filed: June 5, 2006.

Due Date for Answers, Conforming Applications, or Motion to Modify Scope: June 26, 2006.

Description: Application of Northwest Airlines, Inc., requesting renewal of segment 2 of its certificate of public convenience and necessity for route 378, authorizing Northwest to provide scheduled foreign air transportation of persons, property and mail between Detroit, MI and Beijing, People's Republic of China.

Docket Number: OST-2000-8505.

Date Filed: June 6, 2006.

Due Date for Answers, Conforming Applications, or Motion to Modify Scope: June 27, 2006.

Description: Application of Delta Air Lines, Inc., (“Delta”) requesting renewal of its certificate of public convenience and necessity for Route 585, which authorizes Delta to engage in scheduled foreign air transportation of persons, property and mail between the terminal point Los Angeles, CA, and the terminal point Tokyo, Japan.

Docket Number: OST-1996-1318.

Date Filed: June 9, 2006.

Due Date for Answers, Conforming Applications, or Motion to Modify Scope: June 30, 2006.

Description: Application of Continental Airlines, Inc., requesting renewal of its Route 645 certificate authorizing Continental to provide scheduled air transportation of persons, property and mail between Houston and the coterminal points Barranquilla, Bogota and Cali, Colombia, via the intermediate point San Jose, Costa Rica for a period of no less than five years.

Docket Number: OST-2006-25050.

Date Filed: June 9, 2006.

Due Date for Answers, Conforming Applications, or Motion to Modify Scope: June 30, 2006.

Description: Application of Air Greenland A.S. requesting an foreign air carrier permit and exemption authorizing it to engage in scheduled foreign air transportation of persons, property and mail between a point or points, in Greenland, on the one hand, and a point or points in the United States, on the other hand.

Renee V. Wright,
Program Manager, Docket Operations, Federal Register Liaison .

[FR Doc. E6-10086 Filed 6-26-06; 8:45 am]

BILLING CODE 4910-9X-P